DEPARTMENT OF ENERGY

Assessing the National and International Standing of BER Basic Research

AGENCY: Office of Science, Biological and Environmental Research Program, Department of Energy.

ACTION: Request for information.

SUMMARY: The Biological and Environmental Research (BER) Program, as DOE's coordinating office for research on biological systems, bioenergy, environmental science, and Earth system science, is seeking input on technical and logistical pathways that would enhance the BER research portfolio in comparison to similar international research efforts.

DATES: Written comments and information are requested on or before October 31, 2021.

ADDRESSES: Interested persons may submit comments by email only. Comments must be sent to BERACRFI@science.doe.gov with the subject line “BER research benchmarking”.

FOR FURTHER INFORMATION CONTACT: Dr. Tristram O. West, (301) 903-5155, Tristram.west@science.doe.gov.

SUPPLEMENTARY INFORMATION: A charge was issued from the Director of Office of Science on October 8, 2020, to the BER Advisory Committee (BERAC) to assess BER's standing in relation to related research efforts nationally and internationally, and to consider strategies that would increase BER's ability to conduct world-class science in core BER research areas. The Director's charge letter may be found here: https://science.osti.gov/ber/berac/Reports/Current-BERAC-Charges.

The information collected through this request, in addition to other informational sources, may be used by BERAC to develop strategies to further strengthen BER's research capabilities. The conclusions drawn from BERAC's effort are expected to serve as a benchmark for BER's standing in core research areas and provide strategies for improvement where appropriate.

Request for Information

The objective of this request for information is to gather information on BER's standing in relation to related research efforts occurring nationally and internationally, and how BER might increase its stature in conducting world-class basic science currently supported by BER (https://science.osti.gov/ber/Research). Supported research includes Atmospheric Science; Earth and Environmental System Modeling; Environmental Science; Bioenergy and Bioproducts; Plant and Microbial Genomics; Data Analytics and Management; and Scientific User-focused Infrastructure (i.e., DOE User Facilities, Computational Knowledgebase Platforms, Community Observational and Analytical Resources). Information is specifically requested on the status of current capabilities, partnerships, funding mechanisms, and workforce development specific to one or more of the aforementioned research areas. Answers or information related, but not limited, to the following questions are specifically requested:

• Within the BER-supported topical research areas and facility capabilities, in which areas and capabilities, presently or in the foreseeable future, does BER lead in the international community, and in which areas does leadership require strengthening? In identifying these areas, please consider their critical mission relevance, recent history, the status quo, observable trends, and evidence-based projections.

• Are there key international partnerships that could strengthen BER science output and increase global visibility of BER?

• Is there a preferred optimization for organizing research, collaboration, and funding mechanisms among labs, universities, and other federal agencies to preserve and foster U.S. leadership with resource constraints? Are there other key efficiencies and balances that should be considered and modified to improve U.S. leadership in BER research areas?

• How can BER programs and facilities be structured and managed to create incentives that will attract and retain talented people deciding whether to pursue a scientific career, as well as mid-career scientists considering whether to stay in the U.S.?

• What are the key opportunities for BER in attracting and enhancing careers in BER-supported scientific fields?

While the questions provided above can help guide thinking on this topic, any input is welcome which may help DOE assess BER's international standing in the core research areas. The information provided through this request should be presented as specific strategies which DOE Office of Science could implement and track.

Signing Authority

This document of the Department of Energy was signed on August 11, 2021, by Dr. J. Stephen Binkley, Acting Director, Office of Science, pursuant to delegated authority from the Secretary of Energy. The document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 12, 2021.
Treena V. Garrett,
Federal Register Liaison Officer, U.S. Department of Energy.

[FR Doc. 2021-17658 Filed 8-17-21; 8:45 am]

BILLING CODE 6450-01-P